DEPARTMENT OF HOMELAND SECURITY

Coast Guard

33 CFR Part 117

[Docket No. USCG-2015-0108]

Drawbridge Operation Regulation; Sloop Channel, Jones Beach, NY

AGENCY: Coast Guard, DHS.

ACTION: Notice of deviation from drawbridge regulation.

SUMMARY: The Coast Guard has issued a temporary deviation from the operating schedule that governs the operation of the Wantagh State Parkway Bridge, mile 15.4, across Sloop Channel at Jones Beach, New York. This deviation is necessary to facilitate public safety during a public event, the Jones Beach Park's Air Show. This deviation allows the bridge to remain closed for an hour and a half on each day of the air show to help reduce vehicular traffic delays.

DATES: This deviation is effective between 4:30 p.m. and 6 p.m. on May 23 and May 24, 2015.

ADDRESSES: The docket for this deviation, [USCG-2015-0108] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, telephone (212) 514-4330, judy.k.leung-yee@uscg.mil. If you have questions on viewing the docket, call Cheryl Collins, Program Manager, Docket Operations, telephone (202) 366-9826.

SUPPLEMENTARY INFORMATION: The Wantagh State Parkway Bridge across Sloop Channel, mile 15.4, at Jones Beach, New York, has a vertical clearance in the closed position of 16 feet at mean high water and 19.5 feet at mean low water. The existing bridge operating regulations are found at 33 CFR 117.5.

The waterway is transited by seasonal recreational vessels of various sizes.

The bridge owner, New York State Parks, Recreation and Historic Preservation, requested a temporary deviation from the normal operating schedule to facilitate public safety during the annual Jones Beach Park's Air Show over Memorial Day Weekend.

Under this temporary deviation, the Wantagh State Parkway Bridge may remain in the closed position between 4:30 p.m. and 6 p.m. on May 23 and May 24, 2015.

There are no alternate routes for vessel traffic. The vertical clearance under the bridge is 16 feet at mean high water and 19.5 feet at mean low water. The bridge may be opened in the event of an emergency.

The Coast Guard will inform the users of the waterways through our Local and Broadcast Notice to Mariners of the change in operating schedule for the bridges so that vessels can arrange their transits to minimize any impact caused by the temporary deviation.

In accordance with 33 CFR 117.35(e), the drawbridge must return to its regular operating schedule immediately at the end of the effective period of this temporary deviation. This deviation from the operating regulations is authorized under 33 CFR 117.35.

Dated: March 3, 2015.
C.J. Bisignano,
Supervisory Bridge Management Specialist, First Coast Guard District.

[FR Doc. 2015-06148 Filed 3-16-15; 8:45 am]

BILLING CODE 9110-04-P